DEPARTMENT OF TRANSPORTATION

Surface Transportation Board

[STB Docket No. AB-882; STB Docket No. AB-884]

Minnesota Commercial Railway Company—Adverse Discontinuance—In Ramsey County, MN; M T Properties, Inc.—Adverse Abandonment—In Ramsey County, MN

On March 28, 2008, The City of New Brighton, MN (the City), filed an application under 49 U.S.C. 10903, requesting that the Surface Transportation Board (Board) authorize the third-party or adverse abandonment and discontinuance of service over an approximately 0.69-mile line of rail, extending from a junction switch near milepost 10.5 on Minnesota Commercial Railway's (MCRC) main industrial lead track and terminating at the western right-of-way of Interstate Highway 35W (the Line).¹ The Line is owned by M T Properties, Inc. and operated by MCRC. The line traverses United States Postal Service Zip Code 55112, and includes no stations.

¹ The line is a stub-ended track and has no mileposts.

The line sought to be abandoned does not contain federally granted rights-of-way. Any documentation in the City's possession will be made available promptly to those requesting it.

The City states that there are no existing or potential railroad customers located on the line. The City also states that the shippers who last used the Line have relocated and continue to be served by MCRC.

In a decision served in these proceedings on January 25, 2008, the City was granted exemptions from certain statutory provisions as well as waivers of certain Board regulations at 49 CFR part 1152 that were not relevant to its adverse abandonment and discontinuance application or that sought information not available to it. Specifically, the City was granted, as pertinent, waivers of and exemptions from the notice requirements at 49 U.S.C. 10903(c), 49 CFR 1152.10-14, 49 CFR 1152.21, 49 CFR 1152.22(a)(5), and 49 CFR 1152.24(e)(1), and waiver of the regulatory requirement that the application be executed and verified by an officer of the carrier as described at 49 CFR 1152.22(j).

The interests of affected railroad employees, if there are any employees on the Line, will be protected by the conditions set forth in Oregon Short Line R. Co.—Abandonment—Goshen, 360 I.C.C. 91 (1979).

Any interested person may file written comments concerning the proposed abandonment and discontinuance or protests (including the protestant's entire opposition case) by May 12, 2008. The City's reply is due by May 27, 2008.

Any Offer of Financial Assistance (OFA) under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use. Any request for public use condition under 49 CFR 1152.28 or trail use/rail banking under 49 CFR 1152.29 will be due no later than May 12, 2008. Each trail use request must be accompanied by a $200 filing fee. See 49 CFR 1002.2(f)(27)(i).

Persons opposing the proposed abandonment and/or discontinuance who wish to participate actively and fully in the process should file a protest. Persons who may oppose the abandonment and/or discontinuance but who do not wish to participate fully in the process by submitting verified statements of witnesses containing detailed evidence should file comments. Persons seeking information concerning the filing of protests should refer to 49 CFR 1152.25.

All filings in response to this notice must refer to STB Docket Nos. AB-882 and AB-884 and must be sent to: (1) Surface Transportation Board, 395 E Street, SW., Washington, DC 20423-0001; and (2) John D. Heffner, 1750 K Street, NW., Suite 350, Washington, DC 20006. Filings may be submitted either via the Board's e-filing format or in the traditional paper format. Any person using e-filing should attach a document and otherwise comply with the instructions found on the Board's “http://www.stb.dot.gov” Web site, at the “E-FILING” link. Any person submitting a filing in the traditional paper format should send the original and 10 copies of the filing to the Board with a certificate of service. Except as otherwise set forth in 49 CFR part 1152, every document filed with the Board must be served on all parties to these adverse abandonment and discontinuance proceedings. 49 CFR 1104.12(a).

An environmental assessment (EA) (or environmental impact statement (EIS), if necessary) prepared by the Board's Section of Environmental Analysis (SEA) will be served upon all parties of record and upon any agencies or other persons who commented during its preparation. Any other persons who would like to obtain a copy of the EA (or EIS) may contact SEA. EAs in these abandonment proceedings normally will be made available within 33 days of the filing of the application. The deadline for submission of comments on the EA will generally be within 30 days of its service. The comments received will be addressed in the Board's decision. A supplemental EA or EIS may be issued where appropriate.

Persons seeking further information concerning abandonment/discontinuance procedures may contact the Board's Office of Public Assistance, Governmental Affairs and Compliance at (202) 245-0230 or refer to the full abandonment/discontinuance regulations at 49 CFR part 1152. Questions concerning environmental issues may be directed to SEA at (202) 245-0305. [Assistance for the hearing impaired is available through the Federal Information Relay Service (FIRS) at 1-800-877-8339.]

Board decision and notices are available on our Web site at “http://www.stb.dot.gov.”

Decided: April 14, 2008.
By the Board, David M. Konschnik, Director, Office of Proceedings.
Anne K. Quinlan,
Acting Secretary.

[FR Doc. E8-8288 Filed 4-16-08; 8:45 am]

BILLING CODE 4915-01-P